DEPARTMENT OF DEFENSE

Office of the Secretary

[Docket ID DoD-2015-OS-0002]

Privacy Act of 1974; System of Records

AGENCY: Defense Finance and Accounting Office, DoD.

ACTION: Notice to amend a System of Records.

SUMMARY: The Defense Finance and Accounting Service proposes to amend a system of records, T1025, entitled “Mentoring Program” in its inventory of record systems subject to the Privacy Act of 1974, as amended. This system provides DFAS civilian employees with an automated mentoring system which will match mentees with potential mentors based on mentee need and mentor capabilities and experience. The system will facilitate the tracking and management of the DFAS mentoring relationship.

DATES: Comments will be accepted on or before February 20, 2015. This proposed action will be effective on the date following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory L. Outlaw, Defense Finance and Accounting Service, Freedom of Information/Privacy Act Program Manager, Corporate Communications, DFAS-HKC/IN, 8899 E. 56th Street, Indianapolis, IN 46249-0150 or at (317) 212-4591.

SUPPLEMENTARY INFORMATION: The Defense Finance and Accounting Service notices for systems of records subject to the Privacy Act of 1974 (5 U.S.C. 552a), as amended, have been published in the Federal Register and are available from the address in FOR FURTHER INFORMATION CONTACT or from the Defense Privacy and Civil Liberties Division Web site at http://dpcld.defense.gov/.

Dated: January 15, 2015.
Aaron Siegel,
Alternate OSD Federal Register Liaison Officer, Department of Defense.

T1025

System name:

Mentoring Program (July 12, 2013, 78 FR 41917).

Changes:

* * * * *

Categories of records in the system:

Delete entry and replace with “Individual's full name, email address, work phone, location, organization, job series and grade, years of experience at DFAS and total years of work experience.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses published at the beginning of the DFAS compilation of record system notices may apply to this system.”

* * * * *

Retention and disposal:

Delete entry and replace with “Destroy when 5 years old or when superseded or obsolete, whichever is sooner.”

* * * * *

[FR Doc. 2015-00889 Filed 1-20-15; 8:45 am]

BILLING CODE 5001-06-P